DEPARTMENT OF JUSTICE

[OMB Number 1121-0149]

Agency Information Collection Activities; Proposed eCollection eComments Requested; Reinstatement, With Change, of a Previously Approved Collection for Which Approval Has Expired: 2014 National Survey of Prosecutors (NSP-14)

AGENCY: Bureau of Justice Statistics, Department of Justice.

ACTION: 30-Day notice.

SUMMARY: The Department of Justice (DOJ), Office of Justice Programs, will be submitting the following information collection to the Office of Management and Budget (OMB) for review and approval in accordance with the Paperwork Reduction Act of 1995. The proposed information collection was previously published in the Federal Register Volume 79, Number 52, pages 15140-15141 on March 18, 2014, allowing a 60-day comment period. Following publication of the 60-day notice, the Bureau of Justice Statistics received no requests for a copy of the proposed information collection instrument and instructions. No inquiries or others comments were received.

DATES: Comments are encouraged and will be accepted for 30 days until September 4, 2014.

FOR FURTHER INFORMATION CONTACT: Written comments and/or suggestions regarding the items contained in this notice, especially the estimated public burden or associated response time, should be directed to OIRA_submission@omb.eop.gov.

SUPPLEMENTARY INFORMATION: Request written comments and suggestions from the public and affected agencies concerning the proposed collection of information are encouraged. Your comments should address one or more of the following four points:

—Evaluate whether the collection of information is necessary for the proper performance of the functions of the agency, including whether the information will have practical utility;

—Evaluate the accuracy of the agency's estimate of the burden of the collection of information, including the validity of the methodology and assumptions used;

—Enhance the quality, utility and clarity of the information to be collected; and

—Minimize the burden of the collection of information on those who are to respond, including through the use of appropriate automated, electronic, mechanical, or other technological collection techniques or other forms of information technology, e.g. permitting electronic submission of responses.

Overview of this information collection:

(1) Type of Information Collection: Reinstatement of the National Survey of Prosecutors, with changes, a previously approved collection for which approval has expired.

(2) Title of the Form/Collection: 2014 National Survey of Prosecutors (census).

(3) Agency form number: Forms: The form number is NSP-14. The applicable component within the Department of Justice is the Bureau of Justice Statistics, in the Office of Justice Programs. Prosecution and Adjudication Unit, Bureau of Justice Statistics, Office of Justice Programs, United States Department of Justice.

(4) Affected public who will be asked to respond, as well as a brief abstract: This information collection is a census of the local prosecutor offices that handles criminal cases in State courts. The Bureau of Justice Statistics (BJS) proposes to implement the next iteration of the National Survey of Prosecutors (NSP-14). Local prosecutors occupy a central role in a criminal justice system seeking to ensure justice is served. Prosecutors represents the local government in deciding who is charged with a crime, the type and number of charges filed, whether or not to offer a plea, and providing sentencing recommendations for those convicted of crimes. Since 1990, the NSP has been the only recurring national statistical program that captures the administrative and operational characteristics of the prosecutorial function in the State criminal justice system. The NSP-14 will gather national statistics on local prosecutor office staffing and services, budgets, caseloads and convictions, use of DNA evidence, and disposition reporting to repositories. In addition, this study will collect data on the prevalence of human trafficking, cyber-crimes, identity theft, participation in specialty courts and diversion programs, prosecution of youths in criminal courts and criminal jurisdiction services provided on tribal lands by local prosecutor offices. These data will allow BJS to conduct trend analyses and comparisons with historical data, where available and provide descriptive statistics on emerging crimes. The information gathered in the NSP-14 will cover 2014.

(5) An estimate of the total number of respondents and the amount of time needed for an average respondent to respond: An estimated 2,330 persecutor offices will take part in the 2014 National Survey of Prosecutors. Based on pilot testing, an average of 60 minutes per respondent was needed to complete form NSP-14. To ensure a high response rate, BJS subsequently reduced the overall number of questions on the NSP-14 by half. The revised estimated burden for respondents to complete the NSP-14 is 30 minutes. The following factors were considered when creating the burden estimate: The estimated total number of prosecutor offices, the ability of offices to access or gather the data, and the case management systems capabilities generally found within a local prosecutor office. BJS estimates that nearly all of the approximately 2330 respondents will fully complete the questionnaire.

(6) An estimate of the total public burden (in hours) associated with the collection: The estimated public burden associated with this collection is 1,282 hours. It is estimated that respondents will take 30 minutes to complete a questionnaire. The burden hours for collecting respondent data sum to 1,165 hours (2330 respondents' × .5 hours = 1,165 hours) and an additional 10% or 117 hours will be needed for data validation and follow-up contact with the respondents for nonresponse, incorrect or missing information.

If additional information is required contact: Jerri Murray, Department Clearance Officer, United States Department of Justice, Justice Management Division, Policy and Planning Staff, Two Constitution Avenue, 145 N Street NE., Room 3E.405B, Washington, DC 20530.

Dated: July 30, 2014.
Jerri Murray,
Department Clearance Officer for PRA, U.S. Department of Justice.

[FR Doc. 2014-18409 Filed 8-4-14; 8:45 am]

BILLING CODE 4410-18-P